DEPARTMENT OF EDUCATION

Office of Special Education and Rehabilitative Services; List of Correspondence

AGENCY: Department of Education.

ACTION: List of correspondence from April 1, 2002 through June 30, 2002.

SUMMARY: The Secretary is publishing the following list pursuant to section 607(d) of the Individuals with Disabilities Education Act (IDEA). Under section 607(d) of IDEA, the Secretary is required, on a quarterly basis, to publish in the Federal Register a list of correspondence from the Department of Education received by individuals during the previous quarter that describes the interpretations of the Department of Education of IDEA or the regulations that implement IDEA.

FOR FURTHER INFORMATION CONTACT: Melisande Lee or JoLeta Reynolds. Telephone: (202) 205-5507.

If you use a telecommunications device for the deaf (TDD) you may call (202) 205-5637 or the Federal Information Relay Service (FIRS) at 1-800-877-8339.

Individuals with disabilities may obtain a copy of this notice in an alternative format (e.g., Braille, large print, audiotape, or computer diskette) on request to Katie Mincey, Director of the Alternate Format Center. Telephone: (202) 205-8113.

SUPPLEMENTARY INFORMATION: The following list identifies correspondence from the Department issued from April 1, 2002 through June 30, 2002.

Included on the list are those letters that contain interpretations of the requirements of IDEA and its implementing regulations, as well as letters and other documents that the Department believes will assist the public in understanding the requirements of the law and its regulations. The date and topic addressed by a letter are identified, and summary information is also provided, as appropriate. To protect the privacy interests of the individual or individuals involved, personally identifiable information has been deleted, as appropriate.

Part A—General Provisions

Section 602—Definitions.

Topic Addressed: Special Education AND Related Services

• Letter dated April 19, 2002 to individual, (personally identifiable information redacted), regarding the circumstances under which transportation must be provided as a related service; and clarifying that IDEA does not address whether parents are entitled to reimbursement for transporting their child if transportation is not a required related service on the individualized education program.

Part B—Assistance for Education of All Children With Disabilities

Section 611—Authorization; Allotment; Use of Funds; Authorization of Appropriations.

Topic Addressed: Distribution of Funds

• OSEP memorandum 02-06 dated April 26, 2002, regarding implementation of the new funding formula under IDEA, specifically the year of age cohorts for which a free appropriate public education (FAPE) is ensured.

Topic Addressed: Use of Funds

• Letter dated May 22, 2002 to Louisiana Department of Education Division of Appropriation Control Director Kitty Littlejohn regarding the ability to add program income, generated from registration fees assessed on participants at conferences conducted by the State Department of Education, to the IDEA Part B grant award.

Section 612—State Eligibility.

Topic Addressed: Condition of Assistance and Annual Count

• Letter dated April 2, 2002 to individual, (personally identifiable information redacted), clarifying that (1) the Florida Department of Education (FDE) operates a one-tier due process system; (2) the FDE is revising its eligibility documents which will be reviewed by the Office of Special Education Programs; (3) the FDE is developing a State Improvement Plan; and (4) a school district may include in its annual count children placed by their parents in private schools through Florida's program of Scholarships to Public or Private Schools of Choice for Students with Disabilities if these children are being provided special education or related services under 34 CFR 300.452-300.462.

Topic Addressed: State Educational Agency General Supervisory Authority

• Letter dated June 27, 2002 to Dina O. Harris, Esq., John F. Walsh, Esq. and Arizona Assistant Attorney General Kacey Gregson, regarding the ability of a State educational agency (SEA) to reduce or withhold funds from a local educational agency (LEA) that is not meeting its obligation to provide FAPE to all students with disabilities it is responsible for serving.

Topic Addressed: Personnel Standards

• Letter dated April 2, 2002 to G. Emerson Dickman, Esquire, clarifying requirements regarding qualifications of personnel under both the IDEA and the No Child Left Behind Act (NCLB Act) and a parent's right to be informed about the qualifications of individuals providing services to a child.

Section 614—Evaluations, Eligibility Determinations, Individualized Education Programs, and Educational Placements

Topic Addressed: Individualized Education Programs

• Letter dated June 27, 2002 to Illinois State Board of Education Director of Special Education Dr. Anthony E. Sims, clarifying that, although the Part B “at no cost” requirement does not preclude incidental fees normally charged to nondisabled students or their parents as part of the regular education program, it would be impermissible for a public agency to charge parents a fee for extended school year services if summer school services, for which incidental fees are charged, are not a part of the extended school year services provided to the student.

Section 615—Procedural Safeguards

Topic Addressed: Timelines For Appeals

• Letter dated June 26, 2002 to Connecticut Department of Education Bureau Chief George P. Dowaliby clarifying that to require that issues be raised at a planning and placement team meeting before they can be addressed at a due process hearing establishes impermissible notice and exhaustion burdens inconsistent with the IDEA and its implementing regulations.

• Letters dated June 25, 2002 to Minnesota Department of Children Families and Learning Director of Special Education Norena A. Hale, Mississippi State Department of Education Program Improvement and Outreach Bureau Director Dr. Melody Bounds, and Missouri Department of Elementary and Secondary Education Coordinator of Special Education Services Melodie Friedebach, clarifying that the States must revise or delete their 30-day time limits because Circuit Court decisions applicable to these States have specifically rejected a 30-day time for appealing due process hearing decisions since it conflicts with the policies and purposes of the IDEA.

• Letter dated June 4, 2002 to Arkansas Department of Education Associate Director of Special Education Marcia Harding, requesting that Arkansas revise its 30-day time limit for filing a civil action under IDEA to be consistent with a case involving the Arkansas time limit.

• Letters dated June 4, 2002 to Minnesota Department of Children, Families and Learning Director of Special Education Norena A. Hale, Mississippi State Department of Education Program Improvement and Outreach Bureau Director Dr. Melody Bounds, Missouri Department of Elementary and Secondary Education Coordinator of Special Education Services Melodie Friedebach, and Nebraska Department of Education Special Populations Administrator Gary M. Sherman, requesting that the States either explain why case law rejecting a 30-day time limit for judicial review of IDEA claims is not applicable to civil actions in their States or revise their 30-day time limits.

Part C—Infants and Toddlers with Disabilities

Section 636—Individualized Family Service Plan

Topic Addressed: Early Intervention Services

• Letter dated June 11, 2002 to Kentucky Acting Part C Coordinator Ms. Trish Howard, clarifying that (1) guidelines established by a State to assist teams in developing an individualized family service plan (IFSP) may not be implemented in a manner that restricts the authority and responsibility of the IFSP team and (2) that the IFSP team makes the final determination of the frequency and intensity of early intervention services needed by the child.

Other Letters Relevant to the Administration of IDEA Programs

Topic Addressed: Free Appropriate Public Education

• Dear Colleague letter dated June 14, 2002 regarding preliminary guidance for programs which must be implemented by the 2002-2003 school year on public school choice, supplemental education services, and collective bargaining agreements under the provisions of the NCLB Act.

• Letter dated May 10, 2002 to Florida Department of Education Bureau of Instructional Support and Community Services Chief Shan Goff, regarding Florida's obligation under Federal civil rights laws to ensure that its Scholarship Program for Students with Disabilities is administered in a nondiscriminatory manner.

Topic Addressed: Personnel Standards

• Letter dated April 30, 2002 to Alabama Superintendent of Education Edward R. Richardson, clarifying Title I paraprofessional requirements under the NCLB Act.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-800-293-6498; or in the Washington, DC, area at (202) 512-1530.

Note: The official version of this document is published in the Federal Register. Free Internet access to the official edition of the Federal Register and the Code of Federal Regulations is available on GPO Access at: http://www.access.gpo.gov/nara/index.html.

(Catalog of Federal Domestic Assistance Number 84.027, Assistance to States for Education of Children with Disabilities)

Dated: October 31, 2002.
Robert H. Pasternack,
Assistant Secretary for Special Education and Rehabilitative Services.

[FR Doc. 02-28363 Filed 11-6-02; 8:45 am]

BILLING CODE 4000-01-P